DEPARTMENT OF TRANSPORTATION

Federal Aviation Administration

14 CFR Part 71

[Docket No. FAA-2007-28101; Airspace Docket No. 07-ASO-9]

Establishment of Class E Airspace; Vero Beach, FL

AGENCY: Federal Aviation Administration (FAA), DOT.

ACTION: Final rule.

SUMMARY: This action establishes Class E2 airspace at Vero Beach, FL. As a result of an evaluation, it has been determined Class E Airspace Designated as Surface Areas should be established for Vero Beach Municipal Airport. Miami Air Route Traffic Control Center has communications capabilities and weather observation reporting when the Vero Beach tower is closed. Therefore, the airport will meet criteria for Class E2 airspace. Class E2 surface area airspace is required when the control tower is closed to contain Standard Instrument Approach Procedures (SIAPs) and other Instrument Flight Rules (IFR) operations at the airport. This action establishes Class E2 airspace extending upward from the surface to and including 2,500 feet MSL within a 4.2-mile radius of the airport and within 3.2 miles each side of the 261° bearing from the Vero Beach Nondirectional Radio Beacon (NDB) extending from the 4.2-mile radius of the Vero Beach Municipal Airport to 7 miles west of the NDB.

DATES: Effective Date: 0901 UTC, October 25, 2007. The Director of the Federal Register approves this incorporation by reference action under title 1, Code of Federal Regulations, part 51, subject to the annual revision of FAA Order 7400.9 and publication of conforming amendments.

FOR FURTHER INFORMATION CONTACT: Mark D. Ward, Group Manager, System Support, Eastern Service Center, Federal Aviation Administration, P.O. Box 20636, Atlanta, Georgia 30320; telephone (404) 305-5627.

SUPPLEMENTARY INFORMATION:

History

On May 22, 2007, the FAA proposed to amend part 71 of the Federal Aviation Regulations (14 CFR part 71) by establishing Class E2 airspace at Vero Beach, FL (72 FR 28623). This action provides adequate Class E2 airspace for IFR operations at Vero Beach Municipal Airport when the tower is closed. Designations for Class E airspace areas designated as surface areas are published in FAA Order 7400.9P, dated September 16, 2006, and effective September 16, 2006, which is incorporated by reference in 14 CFR part 71.1. The Class E designations listed in this document will be published subsequently in the Order.

Interested parties were invited to participate in this rulemaking proceeding by submitting written comments on the proposal to the FAA. No comments objecting to the proposal were received.

The Rule

This amendment to part 71 of the Federal Aviation Regulations (14 CFR part 71) establishes Class E2 airspace at Vero Beach, FL.

The FAA has determined that this proposed regulation only involves an established body of technical regulations for which frequent and routine amendments are necessary to keep them operationally current. It, therefore, (1) is not a “significant regulatory action” under Executive Order 12866; 2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

Paragraph 6002 Class E Airspace Designated as Surface Areas.

* * * * *

ASO FL E2 Vero Beach, FL [NEW]

Vero Beach Municipal Airport, FL

(Lat. 27°39′20″ N., long. 80°25′05″ W.)

Vero Beach NDB

(Lat 27°39′51″ N., long. 80°25′10″ W.)

That airspace extending upward from the surface to and including 2,500 feet MSL within 4.2 mile radius of the Vero Beach Municipal Airport and within 3.2 miles each side of the 261° bearing from the Vero Beach NDB extending from the 4.2-mile radius of the Vero Beach Municipal Airport to 7 miles west of the NDB. This Class E airspace area is effective during the specific days and times established in advance by a Notice to Airmen. The effective days and times will thereafter be continuously published in the Airport/Facility Directory.

* * * * *

Issued in College Park, Georgia, on June 26, 2007.
Kathy Kutch,
Acting Group Manager, System Support, Eastern Service Center.

[FR Doc. 07-3346 Filed 7-10-07; 8:45 am]

BILLING CODE 4910-13-M